DEPARTMENT OF TRANSPORTATION

Federal Highway Administration

Environmental Impact Statement: Salt Lake County, UT

AGENCY: Federal Highway Administration (FHWA), DOT.

ACTION: Withdrawal of the Notice of Intent.

SUMMARY: The FHWA is issuing this notice to advise the public that a Final Environmental Impact Statement (EIS) will not be prepared for transportation improvements in the corridor at 2000 East (Highland Drive) in Salt Lake County, Utah.

FOR FURTHER INFORMATION CONTACT: Gregory S. Punske, P.E., Environmental Program Manager, FHWA, Utah Division, 2520 West 4700 South, Suite 9A, Salt Lake City, UT 84118, Telephone (801) 963-0182; or Lars Anderson, Utah Department of Transportation (UDOT), 2010 South 2760 West, Salt Lake City, UT 84104, Telephone (801) 887-3470.

SUPPLEMENTARY INFORMATION: The FHWA, in cooperation with the UDOT and the City of Sandy, Utah have elected not to prepare a Final EIS for transportation improvements in the corridor at 2000 East (Highland Drive) from 9400 South in the city of Sandy, Utah, to Interstate 15 between 11400 South and 14600 South in the city of Draper, Utah. The original Notice of Intent for this project was published on October 1, 1996. A Draft EIS was circulated on October 22, 1998. The FHWA, in cooperation with the UDOT and the City of Sandy, Utah; have elected not to pursue the project and terminate the EIS process. Comments or questions concerning this action should be directed to FHWA at the address provided above.

(Catalog of Federal Domestic Assistance Program Number 20.205, Highway Planning and Construction. The regulations implementing Executive Order 12372 regarding intergovernmental consultation on Federal programs and activities apply to this program.)

Issued on: May 20, 2004.
Gregory S. Punske,
Environmental Program Manager, Utah Division, Federal Highway Administration, Salt Lake City, Utah.

[FR Doc. 04-12004 Filed 5-26-04; 8:45 am]

BILLING CODE 4910-22-M